DEPARTMENT OF LABOR

Employment and Training Administration

[NAFTA-4435]

Bayer Corporation, Consumer Care Division, Elkhart, IN; Dismissal of Application for Reconsideration

Pursuant to 29 CFR 90.18(C) an application for administrative reconsideration was filed with the Director of the Division of Trade Adjustment Assistance for workers at Bayer Corporation, Consumer Care Division, Elkhart, Indiana. The application contained no new substantial information which would bear importantly on the Department's determination. Therefore, dismissal of the application was issued.

NAFTA-4435; Bayer Corporation Consumer Care Division Elkhart, Indiana (May 2, 2001)

Signed at Washington, D.C. this 3rd day of May, 2001.
Edward A. Tomchick,
Director, Division of Trade Adjustment Assistance.

[FR Doc. 01-13004 Filed 5-22-01; 8:45 am]

BILLING CODE 4510-30-M